DEPARTMENT OF HEALTH AND HUMAN SERVICES

Office of the Secretary

Findings of Research Misconduct

AGENCY: Office of the Secretary, HHS.

ACTION: Notice.

SUMMARY: Findings of research misconduct have been made against Ozgur Tataroglu, Ph.D. (Respondent), former postdoctoral fellow, Department of Neurobiology, University of Massachusetts Medical School (UMMS). Dr. Tataroglu engaged in research misconduct in research supported by U.S. Public Health Service (PHS) funds, specifically National Institute of General Medical Sciences (NIGMS), National Institutes of Health (NIH), grants R01 GM066777 and R01 GM079182. The administrative actions, including supervision for a period of three (3) years, were implemented beginning on December 30, 2019, and are detailed below.

FOR FURTHER INFORMATION CONTACT: Elisabeth A. Handley, Interim Director, Office of Research Integrity, 1101 Wootton Parkway, Suite 240, Rockville, MD 20852, (240) 453-8200.

SUPPLEMENTARY INFORMATION: Notice is hereby given that the Office of Research Integrity (ORI) has taken final action in the following case:

Ozgur Tataroglu, Ph.D., University of Massachusetts Medical School: Based on the report of an investigation conducted by UMMS and additional analysis conducted by ORI in its oversight review, ORI found that Dr. Ozgur Tataroglu, former postdoctoral fellow, Department of Neurobiology, UMMS, engaged in research misconduct in research supported by PHS funds, specifically NIGMS, NIH, grants R01 GM066777 and R01 GM079182.

Respondent neither admits nor denies ORI's findings of research misconduct. The settlement is not an admission of liability on the part of the Respondent. The parties entered into a Voluntary Settlement Agreement (Agreement) to conclude this matter without further expenditure of time, finances, or other resources.

ORI found that Respondent engaged in research misconduct by knowingly, intentionally, and/or recklessly falsifying data included in the following one (1) paper and two (2) grant applications submitted to NIGMS, NIH:

• Calcium and SOL Protease Mediate Temperature Resetting of Circadian Clocks. Cell 2015 Nov 19;163(5):1214-1224 (hereafter referred to as “Cell 2015”). Retracted in: Cell 2017 Sep 21;171(1):256.

• R01 GM079182-05A1, “Synchronization of Drosophila Circadian Rhythms by Temperature Cycles,” submitted to NIGMS, NIH, on July 18, 2014.

• R35 GM118087-01, “Molecular and neural mechanisms generating and synchronizing circadian rhythms,” submitted to NIGMS, NIH, on May 19, 2015.

Specifically, ORI found that Respondent engaged in research misconduct by knowingly, intentionally, and/or recklessly falsifying data in bar graphs representing phase shift of circadian clock activity between Drosophila without and with heat pulse (HP) treatment in: Figures 1G, 2F, 3C, and 4C of Cell 2015; Figures 7D, 8G, and 9C in grant application R01 GM079182-05A1; Figures 3C and 4 in grant application R35 GM118087-01; and two (2) figures recorded in his unpublished data files, by selectively altering the original Drosophila behavior locomotor data in his primary data files. The data manipulations resulted in the creation or exaggeration of phase shifts caused by either HP treatment or over-expression of the calpain protease SOL, to support the hypothesis that temperature phase shifts the Drosophila circadian clock through the regulated degradation of the pacemaker protein TIMELESS mediated by SOL.

Dr. Tataroglu entered into an Agreement and voluntarily agreed:

(1) To have his research supervised for a period of three (3) years beginning on December 30, 2019; Respondent agreed that prior to the submission of an application for PHS support for a research project on which Respondent's participation is proposed and prior to Respondent's participation in any capacity on PHS-supported research, Respondent shall ensure that a plan for supervision of Respondent's duties is submitted to ORI for approval; the supervision plan must be designed to ensure the scientific integrity of Respondent's research contribution; Respondent agreed that he shall not participate in any PHS-supported research until such a supervision plan is submitted to and approved by ORI; Respondent agreed to maintain responsibility for compliance with the agreed supervision plan;

(2) that the requirements for Respondent's supervision plan are as follows:

i. A committee of 2-3 senior faculty members at the institution who are familiar with Respondent's field of research, but not including Respondent's supervisor or collaborators, will provide oversight and guidance for three (3) years beginning on December 30, 2019; the committee will review primary data from Respondent's laboratory on a quarterly basis and submit a report to ORI at six (6) month intervals setting forth the committee meeting dates, Respondent's compliance with appropriate research standards, and confirming the integrity of Respondent's research; and

ii. the committee will conduct an advance review of any PHS grant applications (including supplements, resubmissions, etc.), manuscripts reporting PHS-funded research submitted for publication, and abstracts; the review will include a discussion with Respondent of the primary data represented in those documents and will include a certification to ORI that the data presented in the proposed application/publication is supported by the research record;

(3) that for a period of three (3) years beginning on December 30, 2019, any institution employing him shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract;

(4) that if no supervisory plan is provided to ORI, Respondent shall provide certification to ORI at the conclusion of the supervision period that he has not engaged in, applied for, or had his name included on any application, proposal, or other request for PHS funds without prior notification to ORI; and

(5) to exclude himself voluntarily from serving in any advisory capacity to PHS including, but not limited to, service on any PHS advisory committee, board, and/or peer review committee, or as a consultant for a period of three (3) years beginning on December 30, 2019.

Elisabeth A. Handley,
Interim Director, Office of Research Integrity.

[FR Doc. 2020-00874 Filed 1-17-20; 8:45 am]

BILLING CODE 4150-31-P